DEPARTMENT OF AGRICULTURE

Natural Resources Conservation Service

Notice of the Release of the Comprehensive Nutrient Management Planning Technical Guidance

AGENCY: Natural Resources Conservation Service (NRCS), U.S. Department of Agriculture.

ACTION: Release of final Comprehensive Nutrient Management Planning Technical Guidance.

SUMMARY: The U.S. Department of Agriculture's (USDA) Natural Resources Conservation Service (NRCS) released the draft Technical Guidance For Developing Comprehensive Nutrient Management Plans (CNMPs) for public review and comment in December 1999. Based on the comments received, the document has been revised and is now being released in final form as the Comprehensive Nutrient Management Planning Technical Guidance. This guidance document is intended for use by Natural Resources Conservation Service (NRCS) and conservation partner State and local field staffs, private consultants, landowners/operators, and others that either will be developing or assisting in the development of Comprehensive Nutrient Management Plans (CNMPs).

Availability: The Comprehensive Nutrient Management Planning Technical Guidance is available on the NRCS” website at: http://www.nhq.nrcs.usda.gov/PROGRAMS/ahcwpd/ahCNMP.html. A paper copy of the CNMP Technical Guidance can be obtained by submitting a request in writing to: Director, Animal Husbandry and Clean Water Programs Division, 5601 Sunnyside Avenue, Mail Stop 5473, Beltsville, Maryland, 20705; or by calling (301) 504-2196.

DATES: This document becomes effective on December 1, 2000.

FOR FURTHER INFORMATION CONTACT: Thomas W. Christensen, Natural Resources Conservation Service, (301) 504-2196; fax (301) 504-2264, e-mail thomas.christensen@usda.gov.

SUPPLEMENTARY INFORMATION: The Comprehensive Nutrient Management Planning Technical Guidance is a document intended for use by those individuals (both public and private) who will be developing or assisting in the development of CNMPs. The purpose of this document is to provide technical guidance for the development of CNMPs, whether they are developed through USDA's voluntary programs or as a means to help satisfy the United States Environmental Protection Agency's (USEPA) National Pollutant Discharge Elimination System (NPDES) permit requirements.

The technical guidance is not intended as a sole source reference for developing CNMPs. Rather, it is to be used as a tool in support of the USDA, NRCS conservation planning process, as contained in the NRCS National Planning Procedures Handbook (NPPH) and various other agency technical references, handbooks, and policy directives. This technical guidance provides specific criteria that needs to be addressed in developing and implementing a CNMP. USDA prohibits discrimination in its programs and activities on the basis of race, color, national origin, gender, religion, age, sexual orientation, or disability. Additionally, discrimination on the basis of political beliefs and marital or family status also is prohibited by statutes enforced by USDA. (All prohibited bases do not apply to all programs). Persons with disabilities who require alternative means for communication of program information (braille, large print, audio tape, etc.) should contact the USDA's Target Center at (202) 720-2600 (voice and TDD).

To file a complaint of discrimination to USDA, write USDA Director, Office of Civil Rights, Room 326-W, Whitten Building, 14th and Independence Avenue, SW., Washington, DC 20250-9410, or call (202) 720-5964 (voice and TDD). USDA is an equal opportunity provider and employer.

Signed in Washington, D.C., on December 1, 2000
Danny D. Sells,
Associate Chief, Natural Resources Conservation Service.

[FR Doc. 00-31264 Filed 12-7-00; 8:45 am]

BILLING CODE 3410-16-P